DEPARTMENT OF ENERGY

Federal Energy Regulatory Commission

Combined Notice of Filings #2

Take notice that the Commission received the following electric corporate filings:

Docket Numbers: EC16-116-000.

Applicants: Weyerhaeuser NR Company, International Paper Company.

Description: Application of Weyerhaeuser NR Company, et al. under Section 203 for Disposition and Consolidation of Jurisdictional Facilities, et al.

Filed Date: 5/6/16.

Accession Number: 20160506-5255.

Comments Due: 5 p.m. ET 5/27/16.

Take notice that the Commission received the following exempt wholesale generator filings:

Docket Numbers: EG16-97-000.

Applicants: River Bend Solar, LLC.

Description: Notice of Self-Certification of Exempt Wholesale Generator Status of River Bend Solar, LLC.

Filed Date: 5/9/16.

Accession Number: 20160509-5121.

Comments Due: 5 p.m. ET 5/31/16.

Take notice that the Commission received the following electric rate filings:

Docket Numbers: ER10-1355-004.

Applicants: Southern California Edison Company.

Description: Amendment to December 17, 2015 Market-Based Rate Triennial Filing for Southwest Region of Southern California Edison Company.

Filed Date: 5/6/16.

Accession Number: 20160506-5250.

Comments Due: 5 p.m. ET 5/27/16.

Docket Numbers: ER10-3232-006; ER14-2871-009; ER16-182-004; ER10-3244-011; ER10-3251-009; ER14-2382-009; ER15-621-008; ER11-2639-009; ER15-622-008; ER15-463-008; ER16-72-004; ER15-110-008; ER13-1586-010; ER10-1992-016.

Applicants: Wheelabrator Shasta Energy Company Inc., Cameron Ridge, LLC, Cameron Ridge II, LLC, Coso Geothermal Power Holdings, LLC, Oak Creek Wind Power, LLC, ON Wind Energy LLC, Pacific Crest Power, LLC, Ridge Crest Wind Partners, LLC, Ridgetop Energy, LLC, San Gorgonio Westwinds II, LLC, San Gorgonio Westwinds II—Windustries, Terra-Gen Energy Services, LLC, TGP Energy Management, LLC, Victory Garden Phase IV, LLC.

Description: Notice of Change in Status of the ECP MBR Sellers, et al.

Filed Date: 5/6/16.

Accession Number: 20160506-5260.

Comments Due: 5 p.m. ET 5/27/16.

Docket Numbers: ER16-1643-000.

Applicants: Southern California Edison Company.

Description: Notice of Cancellation of Southern California Edison Company Rate Schedule No. 282.

Filed Date: 5/6/16.

Accession Number: 20160506-5253.

Comments Due: 5 p.m. ET 5/27/16.

Docket Numbers: ER16-1644-000.

Applicants: TPF Generation Holdings, LLC.

Description: § 205(d) Rate Filing: Normal 2016 to be effective 5/10/2016.

Filed Date: 5/9/16.

Accession Number: 20160509-5101.

Comments Due: 5 p.m. ET 5/31/16.

Docket Numbers: ER16-1645-000.

Applicants: Wolverine Power Supply Cooperative, Inc.

Description: Initial rate filing: Van Tyle Transmission Station Interconnection Facilities Agreement to be effective 5/5/2016.

Filed Date: 5/9/16.

Accession Number: 20160509-5102.

Comments Due: 5 p.m. ET 5/31/16.

Docket Numbers: ER16-1646-000.

Applicants: PacifiCorp.

Description: § 205(d) Rate Filing: BPA General Transfer Agreement (West) Rev 6 to be effective 1/1/2016.

Filed Date: 5/9/16.

Accession Number: 20160509-5126.

Comments Due: 5 p.m. ET 5/31/16.

Docket Numbers: ER16-1647-000.

Applicants: Southern California Edison Company.

Description: § 205(d) Rate Filing: 2016 Revised Added Facilities Rate WDAT—Filing No. 12 to be effective 7/9/2016.

Filed Date: 5/9/16.

Accession Number: 20160509-5134.

Comments Due: 5 p.m. ET 5/31/16.

Docket Numbers: ER16-1648-000.

Applicants: Southern California Edison Company.

Description: § 205(d) Rate Filing: 2016 Revised Added Facilities Rate under TO—Filing No. 3 to be effective1/1/2016.

Filed Date: 5/9/16.

Accession Number: 20160509-5135.

Comments Due: 5 p.m. ET 5/31/16.

Docket Numbers: ER16-1649-000.

Applicants: California Independent System Operator Corporation.

Description: § 205(d) Rate Filing: 2016-05-09 Aliso Canyon Tariff Amendment to Enhance Gas-Electric Coordination to be effective 6/2/2016.

Filed Date: 5/9/16.

Accession Number: 20160509-5152.

Comments Due: 5 p.m. ET 5/16/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2016.
Nathaniel J. Davis, Sr.,
Deputy Secretary.

[FR Doc. 2016-11530 Filed 5-13-16; 8:45 am]

BILLING CODE 6717-01-P